GENERAL SERVICES ADMINISTRATION

[Notice-MA-2024-02; Docket No. 2024-0002; Sequence No. 30]

GSA Electric Vehicle Battery Management Strategic Plan

AGENCY: General Services Administration.

ACTION: Request for information.

SUMMARY: The Office of Government-wide Policy (OGP), General Services Administration (GSA) requests input from the full range of institutions and organizations across all sectors—industry, government, academia, non-profits, venture capital, and others—for a strategic plan for Federal Electric Vehicle Fleet Battery Management in accordance with the National Defense Authorization Act for Fiscal Year 2023. This legislation tasks GSA to identify and gain insight into emerging contemporary trends, practices, and standards in EV Battery Management. OGP will subsequently develop a comprehensive strategic plan to help agencies maximize the full potential of EV Battery Management best practices and strategic benefits.

DATES: Interested persons or organizations are invited to submit comments on or before 11:59 p.m. (EST) on July 22, 2024.

ADDRESSES: Comments submitted in response to this notice may be sent by the following methods:

• Email: GSARegSec@gsa.gov. Email submissions should be machine-readable and not be copy-protected. Submissions should include “RFI Response: “EV Battery Management Strategic Plan” in the subject line of the message.

• Online: http://www.regulations.gov. Submit comments via the Federal eRulemaking portal by searching for “Notice-MA-2024-02”. Select the link “Comment” that corresponds with “MA-2024-02.” Follow the instructions provided at the screen. Please include your name, company name (if any), and “MA-2024-02” on your attached document.

Instructions: Please submit comments only and cite Notice-MA-2024-02, in all correspondence related to this notice. Comments received generally will be posted without change to http://www.regulations.gov, including any personal and/or business confidential information provided. To confirm receipt of your comment(s), please check http://www.regulations.gov, approximately two-to-three days after submission to verify posting.

FOR FURTHER INFORMATION CONTACT: For additional information, please direct questions to James Vogelsinger, Director, Motor Vehicle Policy Division, Office of Government-wide Policy, Office of Asset and Transportation Management at james.vogelsinger@gsa.gov or by phone at 202-501-1764.

SUPPLEMENTARY INFORMATION:

I. Background

GSA has taken pride in developing innovative, cost-effective, and collaborative solutions to the growing and evolving Federal Electric Vehicle Fleet. OGP, Motor Vehicle Policy Division, also seeks to improve management and enhance the performance of the motor vehicle fleets by fostering interagency collaboration, shared services, and smart policies that allow Federal customer agencies to focus on their mission delivery.

As the EV fleet continues to grow, it has become increasingly important that agencies have a comprehensive, strategic plan for the management of these vehicles to maximize the full potential of their economic, environmental, and strategic benefits.

To this end, in the National Defense Authorization Act for Fiscal Year 2023, Congress requested GSA and OMB to coordinate with the heads of Federal agencies to develop a comprehensive, strategic plan for Federal Electric Vehicle Fleet Battery Management.

II. Purpose

The objective of this government-wide strategic plan is to identify and gain insight into emerging contemporary trends, research, and standards in EV battery optimal use, reuse, recycling, and disposal practices. The strategic plan for Federal Electric Vehicle Fleet Battery Management will incorporate guidelines for:

(1) Optimal charging practices that will maximize battery longevity and prevent premature degradation;

(2) Reusing and recycling the batteries of retired vehicles; and

(3) Disposing electric vehicle batteries that cannot be reused or recycled.

III. Public Comments

Responses may address one or as many topics as desired from the enumerated list of Key EV Battery Management Focus Areas provided in this RFI. Responses should include the name of the person(s) or organization(s) filing the comment, as well as the respondent type (e.g., scientists who are studying electric vehicle batteries and reuse and recycling solutions, laboratories, companies, academic institution engaged in battery use, reuse, and recycling research; industries, government, others interested in electric vehicle battery reuse and recycling, and electric vehicle equipment manufacturers and recyclers). Respondent's role in the organization may also be provided (e.g., researcher, administrator, student, program manager, journalist) on a voluntary basis.

Comments containing references, studies, research, and other empirical data that are not widely published should include copies or electronic links of the referenced materials. No business proprietary information, copyrighted information, or personally identifiable information (aside from that requested above) should be submitted in response to this RFI. Comments submitted in response to this RFI may be posted online or otherwise released publicly.

Mehul Parekh,
Acting Associate Administrator, Office of Government-wide Policy, U.S. General Services Administration.

[FR Doc. 2024-14347 Filed 6-28-24; 8:45 am]

BILLING CODE 6820-14-P